DEPARTMENT OF TRANSPORTATION

Federal Aviation Administration

Notice of Availability of Draft Environmental Impact Statement and Notice of Public Hearing for the Chicago Terminal Airspace Project

AGENCY: Federal Aviation Administration, DOT.

ACTION: Notice of availability of Draft Environmental Impact Statement and conduct of a public hearing.

SUMMARY: The Federal Aviation Administration (FAA), Great Lakes Region, is issuing this notice to advise the public that it has prepared a Draft Environmental Impact Statement (DEIS) for the Chicago Terminal Airspace Project (CTAP) and that copies of the DEIS are available for public review.

A Public Hearing and informational workshop will be held Monday, December 18, 2000, from 5 p.m. to 8 p.m. in the Illinois, Minnesota and Michigan conference rooms at the Federal Aviation Administration, Great Lakes Region, 2300 East Devon Avenue, Des Plaines, IL, 60018. The entrance is on the northeast side of the building. All persons planning to attend should bring picture identification to allow issuance of a building security pass.

The purpose of this hearing is to consider the environmental effects of the proposed CTAP project and afford the public the opportunity to present oral and/or written comments. A transcript of the hearing will be made. Written comments will be accepted through close of business on January 12, 2001. The first half-hour of each hour of the Public Hearing will be allocated to pre-reserved testimony. Individuals may call Ms. Annette Davis at telephone (847) 294-8091 to receive a reserved time slot to testify at the Public Hearing. All individuals, organizations, agencies, and representatives will have 5 minutes to testify. Individuals, organizations, agencies, and representatives wishing to submit written comments may send them to: Ms. Annette Davis, AGL-520.E, Federal Aviation Administration, Great Lakes Region. 2300 East Devon Avenue, Des Plaines, IL, 60018.

FOR FURTHER INFORMATION CONTACT: Ms. Annette Davis Federal Aviation Administration, Great Lakes Region, Air Traffic Division, 2300 East Devon Avenue, Des Planes, Illinois, 60018, (847)-294-8091.

SUPPLEMENTARY INFORMATION: The proposed CTAP changes could affect flights to and from airports within the Chicago region, including Chicago O'Hare International Airport, Chicago Midway Airport, Milwaukee Mitchell International Airport, and general aviation reliever airports. Components of the proposal include:

• Establish a new high altitude O'Hare arrival route from the southwest, separated laterally and vertically from the existing route

• Modification of the existing high altitude routes at the southeast and northwest arrival cornerposts, separated laterally and vertically from the existing route

• Establishment of a new high altitude route to the northeast, separated vertically from the existing route

• Implementation of more efficient use of existing routes for O'Hare and Midway departures to the north, south, east, and west

• Establishment of a new high altitude route to Midway for aircraft from the northwest and northeast

• Establishment of a new high altitude arrival route for aircraft destined to Milwaukee from the south

• Transfer of portions of airspace from Chicago Center to Chicago Terminal Radar Approach Control (TRACON) and from Chicago TRACON to Rockford TRACON

The project is not associated with any airport development projects or construction of any physical facilities. The changes proposed by CTAP are designed to improve traffic flows and reduce airborne and ground delays. They would enhance safety and efficiency by maximizing controller flexibility and simplifying operations for pilots. CTAP has the potential to enhance air quality by reducing en route mileage. As disclosed in the DEIS, CTAP would not result in significant adverse impacts to any resource category.

Copies of the CTAP DEIS are available at the following locations:

State of Illinois

Bensenville Public Library, 200 S. Church Rd., Bensenville, IL 60106

Des Plaines Public Library, 841 Graceland Ave., Des Plaines, IL 60016

Eisenhower Public Library, 4652 N. Olcott Ave., Harwood Heights, IL 60656

Elk Grove Village Public Library, 1001 Wellington Ave., Elk Grove Village, IL 60007

Elmhurst Public Library, 211 Prospect Ave., Elmhurst, IL 60126

Franklin Park Public Library, 10311 Grand Ave., Franklin Park, IL 60131

Garfield Ridge Branch Library, 6348 South Archer Ave., Chicago, IL 60638

Harold Washington Library, 400 South State St., 5th Floor, Chicago, IL 60605

Mount Prospect Public Library, 10 S. Emerson St., Mount Prospect, IL 60056

Northlake Public Library, 231 N. Wolf Rd., Northlake, IL 60164

Oriole Park Branch Library, 5201 N. Oketo Ave., Chicago, IL 60656

Park Ridge Public Library, 20 S. Prospect Ave., Park Ridge, IL 60068

Schiller Park Public Library, 4200 Old River Rd., Schiller Park, IL 60176

State of Indiana

Lake County Public Library, 1919 W. 81st Ave., Merrillville, IN 46410-5382

State of Wisconsin

Milwaukee Central Public Library, 814 W. Wisconsin Ave., Milwaukee, WI 53233

Oak Creek Public Library, 8620 S. Howell Ave., Oak Creek, WI 53154

Information is also available on the Internet at the web site address http://www.faa.gov/ctap.html.

* * * * *

Issued in Des Plaines, Illinois, on November 7, 2000.
Bridgitt S. Galias,
Acting Manager, Airspace Branch, Air Traffic Division, Great Lakes Region.

[FR Doc. 00-29412 Filed 11-15-00; 8:45 am]

BILLING CODE 4910-13-M